DEPARTMENT OF STATE

22 CFR Part 96

[Public Notice: PN-5200]

RIN 1400-AC00

International Trafficking in Persons: Interagency Sharing of Information and Coordination of Activities

AGENCY: State Department.

ACTION: Final rule.

SUMMARY: This rule implements Section 105 of the Trafficking Victims Protection Act of 2000, as amended by the Trafficking Victims Protection Reauthorization Act of 2003. In particular, this rule establishes guidelines to carry out the sharing of information on all matters relating to grants, grant policies, or other significant actions regarding the international trafficking in persons, to the extent permitted by law. The intended effect of this rule is to enhance interagency communication on policies and programs that address international trafficking in persons.

DATES: This rule is effective September 22, 2005.

ADDRESSES: You may submit comments, identified by any of the following methods:

• E-mail: TIPprograms@state.gov You must include the RIN in the subject line of your message.

• Mail (paper, disk, or CD-ROM submissions): Department of State, Office to Monitor and Combat Trafficking in Persons (SA-22), 1800 G St. NW., Suite 2201, Washington, DC 20520.

• Fax: 202-312-9637

• Hand Delivery or Courier: Department of State, Office to Monitor and Combat Trafficking in Persons (SA-22), 1800 G St. NW., Suite 2201, Washington, DC 20520.

Persons with access to the internet may also view this notice by going to the regulations.gov web site at: http://www.regulations.gov/index.cfm.

FOR FURTHER INFORMATION CONTACT: Department of State, Office to Monitor and Combat Trafficking in Persons (SA-22), 1800 G St. NW., Suite 2201, Washington, DC 20520; TIPprograms@state.gov.

SUPPLEMENTARY INFORMATION: The Trafficking Victims Protection Reauthorization Act of 2003 created a requirement that the President promulgate regulations to implement Section 105 of the Trafficking Victims Protection Act of 2000, as amended (“the Act”).

Section 105 of the Act calls for the President to establish an Interagency Task Force to Monitor and Combat Trafficking and a Senior Policy Operating Group consisting of senior officials designated as representatives of the appointed members of the Task Force. By Executive Order 13257, dated February 13, 2002, the President established the President's Interagency Task Force to Monitor and Combat Trafficking in Persons (“the Task Force”), which is chaired by the Secretary of State and includes the Administrator of the United States Agency for International Development, the Attorney General, the Secretary of Labor, the Secretary of Health and Human Services, the Director of Central Intelligence, and the Director of the Office of Management and Budget. Executive Order 13257 lays out the responsibilities of the Task Force including, among other things, coordinating the implementation of the Act. The Secretary of Homeland Security was added to the Task Force by Executive Order 13286 of February 28, 2003. The Task Force created the Senior Policy Operating Group on December 8, 2003, to coordinate agency activities regarding policies, including grants and grant policies, involving the international trafficking in persons and the implementation of the Act. The Trafficking Victims Protection Reauthorization Act of 2003 amended the Trafficking Victims Protection Act, including by setting out the duties of the Senior Policy Operating Group and requiring the President to promulgate regulations to implement Section 105 (22 U.S.C. 7103(f)(5)).

Executive Order 13333 of March 18, 2004 amends Executive Order 13257 and delegates the task of issuing such regulations to the Secretary of State, and instructs the Senior Policy Operating Group to advise the Secretary of State as to what regulations may be necessary to implement Section 105, including such regulations as may be necessary to carry out the sharing of information on all matters relating to grants, grant policies, or other significant actions regarding the international trafficking in persons (Executive Order 13333, section 4(b)).

Regulatory Findings

Administrative Procedure Act

This rule is exempt from notice-and-comment rulemaking in accordance with 5 U.S.C. 553(a)(2), since it concerns “a matter relating to agency management or personnel or to public property, loans, grants, benefits, or contracts.”

Regulatory Flexibility Act and Executive Order 13272

This rule falls outside the definition of “rule” set forth in the Regulatory Flexibility Act (5 U.S.C. 601(2)) and incorporated in Executive Order 13272, Proper Consideration of Small Entities in Agency Rulemaking. Nevertheless, the Department of State has reviewed this rule in accordance with the criteria set forth in the Act (5 U.S.C. 605(b)) and Section 3(b) of the Executive Order, and, by approving it, certifies that this rule will not have a significant economic impact on a substantial number of small entities.

Unfunded Mandates Reform Act of 1995

This rule will not result in the expenditure by State, local, and tribal governments, in the aggregate, or by the private sector, of $100 million or more in any year and it will not significantly or uniquely affect small governments. Moreover, the rule falls outside the definition of “rule” set forth in the Unfunded Mandates Reform Act of 1996 (2 U.S.C. 658(10), incorporating the definition set forth in the Regulatory Flexibility Act. Therefore, no actions were deemed necessary under the provisions of the Unfunded Mandates Reform Act of 1995.

Small Business Regulatory Enforcement Fairness Act of 1996

This rule is not a “major rule” as defined by 5 U.S.C. 804(2), for purposes of congressional review of agency rulemaking under the Small Business Regulatory Enforcement Act of 1996 (5 U.S.C. 801-808). This rule will not result in an annual effect on the economy of $100 million or more; a major increase in costs or prices for consumers, individual industries, Federal, State, or local government agencies, or geographic regions; or significant adverse effects on competition, employment, investment, productivity, innovation, or on the ability of United States-based companies to compete with foreign based companies in domestic and export markets.

Executive Order 12866

The Department of State does not consider this rule to be a “rule” within the meaning of section 3(d) of Executive Order 12866, Regulatory Planning and Review, nor is it a “significant regulatory action” under Executive Order 12866, section 3(f). While this rulemaking is exempt from Executive Order 12866, the Department has nevertheless reviewed the rule to ensure its consistency with the regulatory philosophy and principles set forth in that Executive Order.

Executive Orders 12372 and 13132: Federalism

This rule will not have substantial direct effects on the States, on the relationship between the national government and the States, or on the distribution of power and responsibilities among the various levels of government. Nor would the rule have federalism implications warranting the application of Executive Orders 12372 and 13132.

Executive Order 12988: Civil Justice Reform

The Department of State has reviewed this rule in light of sections 3(a) and 3(b)(2) of Executive Order 12988 to eliminate ambiguity, minimize litigation, establish clear legal standards, and reduce burden.

Paperwork Reduction Act

This rule does not impose any new reporting or record-keeping requirements subject to the Paperwork Reduction Act, 44 U.S.C. Chapter 35.

List of Subjects

Administrative practice and procedure.

Accordingly, for the reasons set forth in the preamble, 22 CFR Part 96 is added to read as follows:

PART 96—INTERNATIONAL TRAFFICKING IN PERSONS: INTERAGENCY COORDINATION OF ACTIVITIES AND SHARING OF INFORMATION

Sec.
96.1 Coordination of Implementation of the Trafficking Victims Protection Act of 2000, as amended.
96.2 Sharing of Information Regarding International Trafficking in Persons.

Authority: 22 U.S.C. 7103(f)(5); Executive Order 13257 (as amended by Executive Order 13333).

§ 96.1 Coordination of Implementation of the Trafficking Victims Protection Act of 2000, as amended.

The Director of the Office to Monitor and Combat Trafficking in Persons of the Department of State, who is the Chairperson of the Senior Policy Operating Group of the President's Interagency Task Force to Monitor and Combat Trafficking in Persons, shall call meetings of the Senior Policy Operating Group on a regular basis to coordinate activities of Federal departments and agencies regarding policies (including grants and grant policies) involving the international trafficking in persons and the implementation of the Trafficking Victims Protection Act of 2000, as amended.

§ 96.2 Sharing of Information Regarding International Trafficking in Persons.

Each Federal Department or agency represented on the Senior Policy Operating Group shall, to the extent permitted by law, share information on all matters relating to grants, grant policies, or other significant actions regarding the international trafficking in persons. In its coordinating role, the Senior Policy Operating Group shall establish appropriate mechanisms to effect such information sharing.

Dated: September 22, 2005.
Robert B. Zoellick,
Deputy Secretary of State, Department of State.

[FR Doc. 05-20549 Filed 10-12-05; 8:45 am]

BILLING CODE 4710-08-P